DEPARTMENT OF ENERGY

Federal Energy Regulatory Commission

Combined Notice of Filings #1

Take notice that the Commission received the following electric corporate filings:

Docket Numbers: EC18-78-000.

Applicants: Florida Power & Light Company.

Description: Application for Authorization Under Section 203 of the Federal Power Act and Request for Expedited Action of Florida Power & Light Company.

Filed Date: 3/29/18.

Accession Number: 20180329-5344.

Comments Due: 5 p.m. ET 4/19/18.

Take notice that the Commission received the following exempt wholesale generator filings:

Docket Numbers: EG18-71-000.

Applicants: I Squared Capital.

Description: Self-Certification of FC of I Squared Capital.

Filed Date: 3/30/18.

Accession Number: 20180330-5027.

Comments Due: 5 p.m. ET 4/20/18.

Take notice that the Commission received the following electric rate filings:

Docket Numbers: ER10-2739-020; ER14-1219-007; ER16-1732-006; ER17-993-005; ER18-95-002; ER10-2729-007; ER17-989-005; ER10-1854-012; ER17-990-005; ER17-1946-005; ER17-991-005; ER16-1652-008; ER11-3320-012; ER10-2744-013; ER16-2406-006; ER16-2405-006; ER13-2316-010; ER17-992-005; ER10-2678-013; ER10-1631-012; ER14-19-011.

Applicants: LS Power Marketing, LLC, Armstrong Power, LLC, Aurora Generation, LLC, Bath County Energy, LLC, Buchanan Energy Services Company, LLC, Buchanan Generation, LLC, Chambersburg Energy, LLC, Doswell Limited Partnership, Gans Energy, LLC, Helix Ironwood, LLC, Hunlock Energy, LLC, LifeEnergy LLC, LSP University Park, LLC, Riverside Generating Company, L.L.C., Rockford Power, LLC, Rockford Power II, LLC, Seneca Generation, LLC, Springdale Energy, LLC, Troy Energy, LLC, University Park Energy, LLC, West Deptford Energy, LLC.

Description: Notification of Change in Status of the LS PJM MBR Sellers.

Filed Date: 03/29/2018.

Accession Number: 20180329-5347.

Comment Date: 5:00 p.m. ET 4/19/18.

Docket Numbers: ER18-1234-000.

Applicants: Southwestern Electric Power Company.

Description: § 205(d) Rate Filing: Hope PSA to be effective 5/31/2018.

Filed Date: 3/29/18.

Accession Number: 20180329-5287.

Comments Due: 5 p.m. ET 4/19/18.

Docket Numbers: ER18-1235-000.

Applicants: New England Power Pool Participants Committee.

Description: § 205(d) Rate Filing: Apr 2018 Membership Filing to be effective 3/1/2018.

Filed Date: 3/29/18.

Accession Number: 20180329-5301.

Comments Due: 5 p.m. ET 4/19/18.

Docket Numbers: ER18-1236-000.

Applicants: Westar Energy, Inc.

Description: § 205(d) Rate Filing: Request to Recover Costs in Formula Rates, GFR, Attachment D to be effective 6/1/2018.

Filed Date: 3/30/18.

Accession Number: 20180330-5000.

Comments Due: 5 p.m. ET 4/20/18.

Docket Numbers: ER18-1237-000.

Applicants: Cleco Power LLC.

Description: § 205(d) Rate Filing: Monthly System Support Resource Payment for Teche Unit No. 3, 2nd Agreement to be effective 4/1/2018.

Filed Date: 3/30/18.

Accession Number: 20180330-5001.

Comments Due: 5 p.m. ET 4/20/18.

Docket Numbers: ER18-1238-000.

Applicants: Northern States Power Company, a Minnesota corporation.

Description: Notice of Cancellation of Northern States Power Company, a Minnesota corporation of Rate Schedule No. 497.

Filed Date: 3/29/18.

Accession Number: 20180329-5342.

Comments Due: 5 p.m. ET 4/19/18.

Docket Numbers: ER18-1239-000.

Applicants: Northern States Power Company, a Minnesota corporation.

Description: Notice of Cancellation of Northern States Power Company, a Minnesota corporation of Rate Schedule Nos. 342, 417 and 522.

Filed Date: 3/29/18.

Accession Number: 20180329-5343.

Comments Due: 5 p.m. ET 4/19/18.

Docket Numbers: ER18-1240-000.

Applicants: Public Service Company of New Mexico.

Description: § 205(d) Rate Filing: Annual Real Power Loss Factor Filing for 2018 to be effective 6/1/2018.

Filed Date: 3/30/18.

Accession Number: 20180330-5006.

Comments Due: 5 p.m. ET 4/20/18.

Docket Numbers: ER18-1241-000.

Applicants: Midcontinent Independent System Operator, Inc., MidAmerican Energy Company.

Description: § 205(d) Rate Filing: 2018-03-30_SA 2477 Corn Belt—MidAmerican GFA 477 3rd Rev ETIA to be effective 3/23/2018.

Filed Date: 3/30/18.

Accession Number: 20180330-5042.

Comments Due: 5 p.m. ET 4/20/18.

Docket Numbers: ER18-1242-000.

Applicants: Northern Indiana Public Service Company.

Description: § 205(d) Rate Filing: Northern Indiana Public Service Company LLC Reactive Power Rate Filing to be effective 6/1/2018.

Filed Date: 3/30/18.

Accession Number: 20180330-5081.

Comments Due: 5 p.m. ET 4/20/18.

Docket Numbers: ER18-1243-000.

Applicants: PacifiCorp.

Description: § 205(d) Rate Filing: OATT Revised Attachment H-1 (Rev Depreciation Rates 2018) to be effective 6/1/2018.

Filed Date: 3/30/18.

Accession Number: 20180330-5118.

Comments Due: 5 p.m. ET 4/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2018.
Nathaniel J. Davis, Sr.,
Deputy Secretary.

[FR Doc. 2018-06956 Filed 4-4-18; 8:45 am]

BILLING CODE 6717-01-P